DEPARTMENT OF THE TREASURY

Submission for OMB Review; Comment Request

January 10, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before February 17, 2005, to be assured of consideration.

Bureau of the Public Debt (PD)

OMB Number: 1535-0111.

Form Number: SB 2362, 2378 and 2383.

Type of Review: Extension.

Title: Authorization for Purchase and Request for Change U.S. Savings Bonds.

Description: These forms are used to authorize employers to allot funds from employee's pay for the purchase of Savings Bonds.

Respondents: Individuals or households.

Estimated Number of Respondents: 1,300,000.

Estimated Burden Hours Per Respondent: 1 minute.

Frequency of Response: On occasion.

Estimated Total Reporting Burden Hours: 21,667 hours.

OMB Number: 1535-0137.

Form Number: PD F 5441.

Type of Review: Extension.

Title: U.S. Treasury Auctions Submitter Agreement.

Description: These forms are used to request information from entities wishing to participate in U.S. Treasury Securities Auctions via TAPPS Link.

Respondents: Businesses or other for profit.

Estimated Number of Respondents: 1,000.

Estimated Burden Hours Per Respondent: 5 minutes.

Frequency of Response: On occasion.

Estimated Total Reporting Burden Hours: 80 hours.

Clearance Officer: Vicki S. Thorpe, (304) 480-6553, Bureau of the Public Debt, 200 Third Street, Parkersburg, West VA 26106-1328.

OMB Reviewer: Joseph F. Lackey, Jr., (202) 395-7316, Office of Management and Budget, Room 10235, New Executive Office Building, Washington, DC 20503.

Lois K. Holland,
Treasury PRA Clearance Officer.

[FR Doc. 05-924 Filed 1-14-05; 8:45 am]

BILLING CODE 4810-39-P